DEPARTMENT OF THE INTERIOR

Bureau of Indian Affairs

[178A2100DD/AAKC001030/A0A501010.999900 253G]

Land Acquisitions; Puyallup Tribe of the Puyallup Reservation

AGENCY: Bureau of Indian Affairs, Interior.

ACTION: Notice.

SUMMARY: The Assistant Secretary—Indian Affairs made a final agency determination to acquire 9.39 acres, more or less, of land in trust for the Puyallup Tribe of the Puyallup Reservation for gaming and other purposes on November 29, 2016.

FOR FURTHER INFORMATION CONTACT: Ms. Paula L. Hart, Director, Office of Indian Gaming, Bureau of Indian Affairs, MS-3657 MIB, 1849 C Street NW., Washington, DC 202240, telephone (202) 219-4066.

SUPPLEMENTARY INFORMATION: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

On November 29, 2016, the Assistant Secretary—Indian Affairs issued a decision to accept approximately 9.39 acres, more or less, of land in trust for the Puyallup Tribe of the Puyallup Reservation (Tribe), under the authority of the Puyallup Indian Tribe Land Claims Settlement Act of 2006, Pub. L. 109-224, 120 Stat. 376 (May 18, 2006). The Assistant Secretary—Indian Affairs determined that the Tribe's request also meets the requirements of the Indian Gaming Regulatory Act's “on reservation” exception, 25 U.S.C. 2719 (a)(1), to the general prohibition contained in 25 U.S.C. 2719 on gaming on lands acquired in trust after October 17, 1988.

The Assistant Secretary—Indian Affairs, on behalf of the Secretary of the Interior, will immediately acquire title in the name of the United States of America in Trust for the Puyallup Tribe of the Puyallup Reservation upon fulfillment of Departmental requirements.

Legal Description

The 9.39 acres, more or less, are located in Pierce County, State of Washington, and are described as follows:

Parcel A: (Parcel No. 4715011512)

Lots 2 and 3, Block 7846, Indian Addition to the City of Tacoma, according to Plat recorded in Book 7 of Plats at Page 30, in Pierce County, Washington.

Except therefrom the north 20 feet thereof appropriated by the State of Washington in Judgment and Decree entered December 15, 1961 in Pierce County Superior Court Cause No. 148447, and

Except that portion of said Lot 2 conveyed to the City of Tacoma by Deed recorded under Auditor's No. 2435849.

Parcel B: (Parcel No. 4715011520)

Lots 4 and 5, Block 7846, Indian Addition to the City of Tacoma, according to Plat recorded in Book 7 of Plats at Page 30, in Pierce County, Washington.

Parcel C: (Parcel No. 4715011550)

Lots 11 to 13, inclusive, Block 7846, Indian Addition to the City of Tacoma, according to Plat recorded in Book 7 of Plats at Page 30, in Pierce County, Washington.

Except that portion conveyed to the State of Washington by Deed recorded under Auditor's No. 1960494.

Parcel D: (Parcel No. 4715011580)

Lots 18 and 19, Block 7846, Indian Addition to the City of Tacoma, according to Plat recorded in Book 7 of Plats at Page 30, in Pierce County, Washington.

Parcel E: (Parcel No. 4715011600)

Lots 24 and 25, Block 7846, Indian Addition to the City of Tacoma, according to Plat recorded in Book 7 of Plats at Page 30, in Pierce County, Washington.

Parcel F: (Parcel No. 4715011610)

The north half of Lots 26, 27 and 28, Block 7846, Indian Addition to the City of Tacoma, according to Plat recorded in Book 7 of Plats at Page 30, in Pierce County, Washington.

Parcel G: (Parcel No. 4715011640)

Lots 1 and 2, Block 7850, Indian Addition to the City of Tacoma, according to Plat recorded in Book 7 of Plats at Page 30, in Pierce County, Washington.

Except that portion condemned in Judgment entered March 20, 1961 in Pierce County Superior Court Cause No. 146264 for PSH No. 1 (1-5).

Parcel H: (Parcel No. 4715011651)

Lots 3 and 4, Block 7850, Indian Addition to the City of Tacoma, according to Plat recorded in Book 7 of Plats at Page 30, in Pierce County, Washington, lying southwesterly of a line drawn parallel with and 62.5 feet southwesterly, when measured radially, from the 5E Line Survey of State Highway Route No. 5 (PSH No. 1) Tacoma: East R Street to E. Corp. Limits.

Parcel I: (Parcel No. 4715012050)

Lots 9, 10 and the west half of Lot 11, Block 7945, The Indian Addition to the City of Tacoma, according to Plat recorded in Book 7 of Plats at Page 30, in Pierce County, Washington.

Parcel J: (Parcel No. 4715012060)

The east half of Lot 11 and all of Lots 12 and 13, Block 7945, The Indian Addition to the City of Tacoma, according to Plat recorded in Book 7 of Plats at Page 30, in Pierce County, Washington.

Parcel K: (Parcel No. 4715012070)

Lots 14 and 15, Block 7945, The Indian Addition to the City of Tacoma, according to Plat recorded in Book 7 of Plats at Page 30, in Pierce County, Washington.

Parcel L: (Parcel No. 4715012080)

Lots 16 and 17, Block 7945, The Indian Addition to the City of Tacoma, according to Plat recorded in Book 7 of Plats at Page 30, in Pierce County, Washington.

Parcel M: (Parcel No. 4715012100)

The east half of Lot 19 and all of Lot 20, Block 7945, The Indian Addition to the City of Tacoma, according to Plat recorded in Book 7 of Plats at Page 30, in Pierce County, Washington.

Parcel O: (Parcel No. 4715012120)

Lots 23 and 24, Block 7945, The Indian Addition to the City of Tacoma, according to Plat recorded in Book 7 of Plats at Page 30, in Pierce County, Washington.

Parcel P: (Parcel No. 4715012300)

Lots 1, 2 and 3, Block 7949, The Indian Addition to the City of Tacoma, according to Plat recorded in Book 7 of Plats at Page 30, in Pierce County, Washington.

Parcel Q: (Parcel No. 4715012310)

Lots 4 and 5, Block 7949, The Indian Addition to the City of Tacoma, according to Plat recorded in Book 7 of Plats at Page 30, in Pierce County, Washington.

Except that portion of said Lots 4 and 5 condemned by the State of Washington for PSH No. 1 (1-5) by Decree entered December 16, 1961 in Pierce County Superior Court Cause No. 146949.

Parcel R: (Parcel No. 4715012330)

Lots 6 and 7, Block 7949, The Indian Addition to the City of Tacoma, according to Plat recorded in Book 7 of Plats at Page 30, in Pierce County, Washington.

Except that portion of said Lots 6 and 7 conveyed to the State of Washington under Auditor's No. 1918323.

Parcel S: (Parcel No. 4715012344)

All that portion of Lots 8 to 11, inclusive, Block 7949, The Indian Addition to the City of Tacoma, according to Plat recorded in Book 7 of Plats at Page 30, in Pierce County, Washington, lying southerly of a line drawn parallel with and 62.5 feet southerly of the 5E Center Line Survey of SR 5 (PSH No. 1) Tacoma: East R Street to East corporate limits.

Except from said Block 7949 that portion thereof lying within Primary State Highway No. 5.

Parcel T: (Parcel No. 4715012151)

Lots 1 and 2, Block 7946, The Indian Addition to the City of Tacoma, according to plat recorded in Book 7 of Plats at Page 30, in Pierce County, Washington.

Except the west 18 feet of Lot 1 conveyed to the City of Tacoma by Deed recorded under Auditor's No. 8508260151.

Parcel U: (Parcel No. 4715012160)

Lots 3 and 4, Block 7946, The Indian Addition to the City of Tacoma, according to plat recorded in Book 7 of Plats at Page 30, in Pierce County, Washington.

Parcel V: (Parcel No. 4715012170)

Lots 5 and 6, Book 7946, The Indian Addition to the City of Tacoma, according to plat recorded in Book 7 of Plats at Page 30, in Pierce County, Washington.

Parcel W: (Parcel No. 4715012180)

Lot 7 and the west 20 feet of Lot 8, Block 7946, The Indian Addition to the City of Tacoma, according to plat recorded in Book 7 of Plats at Page 30, in Pierce County, Washington.

Parcel X: (Parcel No. 4715012190)

The east 5 feet of Lot 8, all of Lot 9 and the west 15 feet of Lot 10, Block 7946, The Indian Addition to the City of Tacoma, according to plat recorded in Book 7 of Plats at Page 30, in Pierce County, Washington.

Parcel Y: (Parcel No. 4715012200)

The east 10 feet of Lot 10, all of Lot 11 and the west 10 feet of Lot 12, Block 7946, The Indian Addition to the City of Tacoma, according to plat recorded in Book 7 of Plats at Page 30, in Pierce County, Washington.

Parcel Z: (Parcel No. 4715012210)

The east 15 feet of Lot 12, all of Lot 13 and the west 5 feet of Lot 14, Block 7946, The Indian Addition to the City of Tacoma, according to plat recorded in Book 7 of Plats at Page 30, in Pierce County, Washington.

Parcel AA: (Parcel No. 4715012220)

The east 20 feet of Lot 14 and all of Lot 15, Block 7946, The Indian Addition to the City of Tacoma, according to plat recorded in Book 7 of Plats at Page 30, in Pierce County, Washington.

Parcel BB: (Parcel No. 4715012230)

Lots 16 and 17, Block 7946, The Indian Addition to the City of Tacoma, according to plat recorded in Book 7 of Plats at Page 30, in Pierce County, Washington.

Parcel CC: (Parcel No. 4715012240)

Lots 18 and 19, Block 7946, The Indian Addition to the City of Tacoma, according to plat recorded in Book 7 of Plats at Page 30, in Pierce County, Washington.

Parcel DD: (Parcel No. 4715012250)

Lots 20 and 21, Block 7946, The Indian Addition to the City of Tacoma, according to plat recorded in Book 7 of Plats at page 30, in Pierce County, Washington.

Parcel EE: (Parcel No. 4715012260)

Lots 22 and 23, Block 7946, The Indian Addition to the City of Tacoma, according to plat recorded in Book 7 of Plats at Page 30, in Pierce County, Washington.

Parcel FF: (Parcel No. 4715012270)

Lot 24 and the west half of Lot 25, Block 7946, The Indian Addition to the City of Tacoma, according to plat recorded in Book 7 of Plats at Page 30, in Pierce County, Washington.

Parcel GG: (Parcel No. 4715012280)

The east half of Lot 25 and all of Lot 26, Block 7946, The Indian Addition to the City of Tacoma, according to plat recorded in Book 7 of Plats at Page 30, in Pierce County, Washington.

Parcel HH: (Parcel No. 4715012290)

Lots 27 and 28, Block 7946, The Indian Addition to the City of Tacoma, according to plat recorded in Book 7 of Plats at Page 30, in Pierce County, Washington.

Parcel II: (Parcel No. 4715012350)

Lots 1 and 2, Block 7950 The Indian Addition to the City of Tacoma, according to plat recorded in Book 7 of Plats at Page 30, in Pierce County, Washington.

Parcel JJ: (Parcel No. 4715012360)

Lots 3 and 4, Block 7950, The Indian Addition to the City of Tacoma, according to plat recorded in Book 7 of Plats at Page 30, in Pierce County, Washington.

Parcel KK: (Parcel No. 4715012370)

Lots 5 and 6, Block 7950, The Indian Addition to the City of Tacoma, according to plat recorded in Book 7 of Plats at Page 30, in Pierce County, Washington.

Parcel LL: (Parcel No. 4715012380)

Lot 7, Block 7950, The Indian Addition to the City of Tacoma, according to plat recorded in Book 7 of Plats at Page 30, in Pierce County, Washington.

Parcel MM: (Parcel No. 4715012390)

Lots 8 and 9, Block 7950, The Indian Addition to the City of Tacoma, according to plat recorded in Book 7 of Plats at Page 30, in Pierce County, Washington.

Parcel NN: (Parcel No. 4715012400)

Lots 10 and 11, Block 7950, The Indian Addition to the City of Tacoma, according to plat recorded in Book 7 of Plats at Page 30, in Pierce County, Washington.

Parcel OO: (Parcel No. 4715012410)

Lots 12 and 13, Block 7950, The Indian Addition to the City of Tacoma, according to plat recorded in Book 7 of Plats at Page 30, in Pierce County, Washington.

Parcel PP: (Parcel No. 4715012420)

Lots 14 and 15, Block 7950, The Indian Addition to the City of Tacoma, according to plat recorded in Book 7 of Plats at Page 30, in Pierce County, Washington.

Parcel QQ: (Parcel No. 4715012430)

Lots 16 to 20, inclusive, Block 7950, The Indian Addition to the City of Tacoma, according to plat recorded in Book 7 of Plats at Page 30, in Pierce County, Washington.

Parcel RR: (Parcel No. 4715012440)

Lots 21 and 22, Block 7950, The Indian Addition to the City of Tacoma, according to plat recorded in Book 7 of Plats at Page 30, in Pierce County, Washington.

Parcel SS: (Parcel No. 4715012450)

Lots 23 to 28, inclusive, Block 7950, The Indian Addition to the City of Tacoma, according to plat recorded in Book 7 of Plats at Page 30, in Pierce County, Washington.

Parcel TT: (Parcel No. 4715012720)

Lot 2 and the west 20 feet of Lot 3, Block 8045, The Indian Addition to the City of Tacoma, according to plat recorded in Book 7 of Plats at Page 30, in Pierce County, Washington.

Parcel UU: (Parcel No. 4715012730)

The east 5 feet of Lot 3 and all of Lot 4, Block 8045, The Indian Addition to the City of Tacoma, according to plat recorded in Book 7 of Plats at Page 30, in Pierce County, Washington.

Parcel VV: (Parcel No. 4715012740)

Lots 5, 6 and 7, Block 8045, The Indian Addition to the City of Tacoma, according to plat recorded in Book 7 of Plats at Page 30, in Pierce County, Washington.

Parcel WW: (Parcel No. 4715012750)

Lots 8 and 9, Block 8045, The Indian Addition to the City of Tacoma, according to plat recorded in Book 7 of Plats at Page 30, in Pierce County, Washington.

Parcel XX: (Parcel No. 4715012760)

Lot 10 and the west half of Lot 11, Block 8045, The Indian Addition to the City of Tacoma, according to plat recorded in Book 7 of Plats at page 30, in Pierce County, Washington.

Parcel YY: (Parcel No. 4715012770)

The east half of Lot 11 and all of Lot 12, Block 8045, The Indian Addition to the City of Tacoma, according to plat recorded in Book 7 of Plats at Page 30, in Pierce County, Washington.

Parcel ZZ: (Parcel No. 4715012780)

Lots 13 and 14, Block 8045, The Indian Addition to the City of Tacoma, according to plat recorded in Book 7 of Plats at Page 30, in Pierce County, Washington.

Parcel AAA: (Parcel No. 4715012790)

Lots 15 and 16, Block 8045, The Indian Addition to the City of Tacoma, according to plat recorded in Book 7 of Plats at Page 30, in Pierce County, Washington.

Parcel BBB: (Parcel No. 4715012800)

Lots 17 and 18, Block 8045, The Indian Addition to the City of Tacoma, according to plat recorded in Book 7 of Plats at Page 30, in Pierce County, Washington.

Parcel CCC: (Parcel No. 4715012810)

Lots 19 and 20, Block 8045, The Indian Addition to the City of Tacoma, according to plat recorded in Book 7 of Plats at Page 30, in Pierce County, Washington.

Parcel DDD: (Parcel No. 4715012820)

Lots 21 and 22, Block 8045, The Indian Addition to the City of Tacoma, according to plat recorded in Book 7 of Plats at Page 30, in Pierce County, Washington.

Parcel EEE: (Parcel No. 4715012830)

Lot 23, Block 8045, The Indian Addition to the City of Tacoma, according to plat recorded in Book 7 of Plats at Page 30, in Pierce County, Washington.

Parcel FFF: (Parcel No. 4715012840)

Lot 24 and the west half of Lot 25, Block 8045, The Indian Addition to the City of Tacoma, according to plan recorded in Book 7 of Plats at Page 30, in Pierce County, Washington.

Parcel GGG: (Parcel No. 4715012850)

The east half of Lot 25 and all of Lot 26, Block 8045, The Indian Addition to the City of Tacoma, according to plat recorded in Book 7 of Plats at Page 30, in Pierce County, Washington.

Parcel HHH: (Parcel No. 4715012860)

The north half of Lots 27 and 28, Block 8045, The Indian Addition to the City of Tacoma, according to plat recorded in Book 7 of Plats at Page 30, in Pierce County, Washington.

Parcel III: (Parcel No. 4715012870)

The south half of Lots 27 and 28, Block 8045, The Indian Addition to the City of Tacoma, according to plat recorded in Book 7 of Plats at Page 30, in Pierce County, Washington.

Parcel JJJ: (Parcel No. 4715013031)

The east half of Lot 3, all of Lot 4 and the west half of Lot 5, Block 8049, The Indian Addition to the City of Tacoma, according to plat recorded in Book 7 of Plats at Page 30, in Pierce County, Washington.

Parcel KKK: (Parcel No. 4715013032)

The east half of Lot 5, all of Lot 6 and the west half of Lot 7, Block 8049, The Indian Addition to the City of Tacoma, according to plat recorded in Book 7 of Plats at Page 30, in Pierce County, Washington.

Parcel LLL: (Parcel No. 4715013050)

The east half of Lot 7 and all of Lot 8, Block 8049, The Indian Addition to the City of Tacoma, according to plat recorded in Book 7 of Plats at Page 30, in Pierce County, Washington.

Parcel MMM: (Parcel No. 4715013060)

Lot 9 and the west half of Lot 10, Block 8049, The Indian Addition to the City of Tacoma, according to plat recorded in Book 7 of Plats at Page 30, in Pierce County, Washington.

Parcel NNN: (Parcel No. 4715013070)

The east half of Lot 10 and all of Lots 11, 12 and 13, Block 8049, The Indian Addition to the City of Tacoma, according to plat recorded in Book 7 of Plats at Page 30, in Pierce County, Washington.

Parcel OOO: (Parcel No. 4715013081)

Lots 14 and 15, Block 8049, The Indian Addition to the City of Tacoma, according to plat recorded in Book 7 of Plats at Page 30, in Pierce County, Washington.

Parcel PPP: (Parcel No. 4715013082)

Lots 16 and 17, Block 8049, The Indian Addition to the City of Tacoma, according to plat recorded in Book 7 of Plats at Page 30, in Pierce County, Washington.

Parcel QQQ: (Parcel No. 4715013090)

Lots 18 and 19, Block 8049, The Indian Addition to the City of Tacoma, according to plat recorded in Book 7 of Plats at Page 30, in Pierce County, Washington.

Parcel RRR: (Parcel No. 4715013100)

Lot 20, Block 8049, The Indian Addition to the City of Tacoma, according to plat recorded in Book 7 of Plats at Page 30, in Pierce County, Washington.

Parcel SSS: (Parcel No. 4715013111)

Lots 21 and 22, Block 8049, The Indian Addition to the City of Tacoma, according to plat recorded in Book 7 of Plats at Page 30, in Pierce County, Washington.

Parcel TTT: (Parcel No. 4715011530)

Lots 6, 7 and 8, Block 7846, The Indian Addition to the City of Tacoma, according to Plat recorded in Book 7 at page 30, in Pierce County, Washington.

Parcel UUU: (Parcel No. 4715011540)

Lots 9 and 10, Block 7846, The Indian Addition to the City of Tacoma, according to Plat recorded in Book 7 at page 30, in Pierce County, Washington.

Parcel VVV: (Parcel No. 4715011560)

Lots 14 and 15, Block 7846, The Indian Addition to the City of Tacoma, according to Plat recorded in Book 7 at page 30, in Pierce County, Washington.

Except that portion conveyed to the State of Washington, acting by and through its Department of Transportation in Deed recorded under recording number 201107140534.

Parcel WWW: (Parcel No. 4715011570)

Lots 16 and 17, Block 7846, The Indian Addition to the City of Tacoma, according to Plat recorded in Book 7 at page 30, in Pierce County, Washington.

Except that portion conveyed to the State of Washington, acting by and through its Department of Transportation in Deed recorded under recording number 201107140534.

Parcel XXX: (Parcel No. 4715011590)

Lots 20 to 23, inclusive, Block 7846, The Indian Addition to the City of Tacoma, according to Plat recorded in Book 7 at page 30, in Pierce County, Washington.

Except that portion conveyed to the State of Washington in Deed recorded under recording number 201107070139.

Parcel YYY: (Parcel No. 4715012030)

Lots 2, 3 and 4, Block 7945, The Indian Addition to the City of Tacoma, according to Plat recorded in Book 7 at page 30, in Pierce County, Washington.

Parcel ZZZ: (Parcel No. 4715012040)

Lots 5 through 8, inclusive, Block 7945, The Indian Addition to the City of Tacoma, according to Plat recorded in Book 7 at page 30, in Pierce County, Washington.

Parcel AAAA: (Parcel No. 4715012090)

Lot 18 and the west half of Lot 19, Block 7945, The Indian Addition to the City of Tacoma, according to Plat recorded in Book 7 at page 30, in Pierce County, Washington.

Dated: December 13, 2016.
Lawrence S. Roberts,
Principal Deputy Assistant Secretary—Indian Affairs.

[FR Doc. 2016-30820 Filed 12-21-16; 8:45 am]

BILLING CODE 4337-15-P